DEPARTMENT OF TRANSPORTATION

Federal Aviation Administration

14 CFR Part 71

[Docket No. FAA-2021-1152; Airspace Docket No. 19-AAL-72]

RIN 2120-AA66

Amendment of United States Area Navigation (RNAV) Route T-269; Yakutat, AK

AGENCY: Federal Aviation Administration (FAA), DOT.

ACTION: Final rule; correction.

SUMMARY: This action corrects a final rule published by the FAA in the Federal Register on October 24, 2022, that amends United States Area Navigation (RNAV) route T-269 in the vicinity of Yakutat, AK, in support of a large and comprehensive T-route modernization project for the state of Alaska. The final rule identified the MALAS, AK, route point as a waypoint (WP), in error. This action makes an editorial correction to the reference of the MALAS, AK, WP to change it to be reflected as a Fix and match the FAA's National Airspace System Resource (NASR) database information.

DATES: Effective date 0901 UTC, December 29, 2022. The Director of the Federal Register approves this incorporation by reference action under 1 CFR part 51, subject to the annual revision of FAA Order 7400.11 and publication of conforming amendments.

ADDRESSES: FAA Order 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

History

The FAA published a final rule in the Federal Register (87 FR 64159; October 24, 2022), amending T-269 in support of a large and comprehensive T-route modernization project for the state of Alaska. Additionally, the FAA published a final rule correction in the Federal Register (87 FR 65680; November 1, 2022), correcting T-269 to reflect the KATAT, AK, route point as a Fix. Subsequent to publication of the final rule correction, the FAA determined that the MALAS, AK, route point was also inadvertently identified as a WP, in error. This rule corrects that error by changing the reference of the MALAS, AK, WP to the MALAS, AK, Fix. This is an editorial change only to match the FAA's NASR database information and does not alter the alignment of the affected T-269 route.

United States Area Navigation Routes are published in paragraph 6011 of FAA Order JO 7400.11G, dated August 19, 2022, and effective September 15, 2022, which is incorporated by reference in 14 CFR 71.1. The RNAV T-route listed in this document will be published subsequently in FAA Order JO 7400.11.

Correction to Final Rule

Accordingly, pursuant to the authority delegated to me, reference to the MALAS, AK, WP that is reflected in Docket No. FAA-2021-1152, as published in the Federal Register of October 24, 2022 (87 FR 64159), FR Doc. 2022-22496, and as published in the Federal Register of November 1, 2022 (87 FR 65680), FR Doc. 2022-23536, is corrected as follows:

1. On page 64160 for FR Doc. 2022-22496 and pages 65680 and 65681 for FR Doc. 2022-23536, correct the table for T-269 Annette Island, AK (ANN) to MKLUK, AK [Amended] to read:

T-269 Annette Island, AK (ANN) to MKLUK, AK [Amended]
Annette Island, AK (ANN) | VOR/DME | (Lat. 55°03′37.47″ N, long. 131°34′42.24″ W)
Biorka Island, AK (BKA) | VORTAC | (Lat. 56°51′33.87″ N, long. 135°33′04.72″ W)
Yakutat, AK (YAK) | VOR/DME | (Lat. 59°30′38.99″ N, long. 139°38′53.26″ W)
MALAS, AK | FIX | (Lat. 59°39′58.52″ N, long. 140°34′57.61″ W)
OXIDS, AK | WP | (Lat. 59°41′51.68″ N, long. 141°03′17.73″ W)
FOGNU, AK | WP | (Lat. 59°53′31.88″ N, long. 141°49′02.83″ W)
HORGI, AK | WP | (Lat. 60°00′04.68″ N, long. 142°35′23.34″ W)
ZIXIM, AK | WP | (Lat. 60°03′48.75″ N, long. 143°13′27.77″ W)
JOVOM, AK | WP | (Lat. 60°07′40.55″ N, long. 143°42′56.99″ W)
OXUGE, AK | WP | (Lat. 60°06′15.81″ N, long. 144°13′28.54″ W)
KATAT, AK | FIX | (Lat. 60°15′29.17″ N, long. 144°42′18.77″ W)
Johnstone Point, AK (JOH) | VOR/DME | (Lat. 60°28′51.43″ N, long. 146°35′57.61″ W)
Anchorage, AK (TED) | VOR/DME | (Lat. 61°10′04.32″ N, long. 149°57′36.51″ W)
MKLUK, AK | WP | (Lat. 60°26′40.04″ N, long. 165°55′17.28″ W)

* * * * *

Issued in Washington, DC, on November 21, 2022.
Scott M. Rosenbloom,
Manager, Airspace Rules and Regulations.

[FR Doc. 2022-25820 Filed 11-25-22; 8:45 am]

BILLING CODE 4910-13-P